DEPARTMENT OF DEFENSE

Office of the Secretary

[Docket ID: DoD-2008-HA-0120]

Proposed Collection; Comment Request

AGENCY: Office of the Assistant Secretary of Defense for Health Affairs, TRICARE Management Activity, DoD.

ACTION: Notice.

SUMMARY: In compliance with section 3506(c)(2)(A) of the Paperwork Reduction Act of 1995, the Department of Defense, Office of the Assistant Secretary of Defense for Health Affairs, TRICARE Management Activity announces a proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 1, 2008.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposed and associated collection instruments, please write to the Office of the Assistant Secretary of Defense for Health Affairs, TRICARE Management Activity, Skyline Five, Suite 810, 5111 Leesburg Pike, Falls Church, VA 22041-3206, or call at (703) 681-0064.

Title and OMB Number: DoD Patient Safety Survey; OMB Control Number 0720-0034.

Needs and Uses: The 2001 National Defense Authorization Act contained specific sections addressing patient safety in military and veteran's health care systems. This legislation stated that the Secretary of Defense shall establish a patient care error reporting and management system to study occurrences of errors in patient care and that one of the purposes of the system should be “To identify systemic factors that are associated with such occurrences” and “To provide for action to be taken to correct the identified systemic factors” (Sec. 754, items b2 and b3). In addition, the legislation stated that the Secretary shall “Continue research and development investments to improve communication, coordination, and team work in the provision of health care” (Sec. 754, item d4).

In its ongoing response to this legislation, DoD implemented a Web-based patient safety culture survey to a census of all staff working in Army, Navy, and Air Force Military Health System (MHS) facilities in the U.S. and internationally, including Military Treatment Facility (MTF) hospitals as well as ambulatory and dental services. The survey obtains MHS staff opinions on patient safety issues such as teamwork, communications, medical error occurrence and response, error reporting, and overall perceptions of patient safety. The purpose of the survey is to assess the current status of patient safety in MHS facilities as well as to provide baseline input for assessment of patient safety improvement over time. Survey results will be prepared at the facility and Service levels and MHS overall.

Affected Public: Federal government; individuals or households.

Annual Burden Hours: 2,384.

Number of Respondents: 14,022.

Responses per Respondent: 1.

Average Burden per Response: 10 minutes.

Frequency: On occasion.

SUPPLEMENTARY INFORMATION:

Summary of Information Collection

Data Collection Method

The patient safety culture survey is administered as a web-based instrument to a census of all staff, both clinical and non-clinical, working in all U.S. and international MHS facilities. Potential respondents will receive a pre-notification letter followed by an e-mail survey notification containing an embedded hyperlink to the internet location where the survey can be completed. Two additional e-mail survey notifications will be sent, a week apart, so that the data collection field period will be four weeks for each Service. The survey takes about 10 minutes to complete. All survey responses are voluntary and will be individually anonymous; only group-level results will be tabulated to protect individual anonymity.

Dated: September 24, 2008.
Patricia L. Toppings,
OSD Federal Register Liaison Officer, Department of Defense.

[FR Doc. E8-23031 Filed 9-30-08; 8:45 am]

BILLING CODE 5001-06-P